GENERAL SERVICES ADMINISTRATION

48 CFR Parts 533 and 552

[GSAR Case 2007-G501; Docket 2008-0007; Sequence 1]

RIN 3090-AI49

General Services Acquisition Regulation; GSAR Case 2007-G501;Protests, Disputes, and Appeals

AGENCY: Office of the Chief Acquisition Officer, General Services Administration (GSA).

ACTION: Proposed rule.

SUMMARY: The General Services Administration (GSA) is proposing to amend the General Services Acquisition Regulation (GSAR) to update language pertaining to protests, disputes, and appeals. This project is part of the GSAM Rewrite Project, in which all parts of the regulation are being reviewed and updated to include new statutes, legislation, and policies.

DATES: Interested parties should submit written comments to the Regulatory Secretariat on or before August 8, 2008 to be considered in the formulation of a final rule.

ADDRESSES: Submit comments identified by GSAR Case 2007-G501 by any of the following methods:

• Regulations.gov: http://www.regulations.gov.

Submit comments via the Federal eRulemaking portal by inputting “GSAR Case 2007-G501” under the heading “Comment or Submission”. Select the link “Send a Comment or Submission” that corresponds with GSAR Case 2007-G501. Follow the instructions provided to complete the “Public Comment and Submission Form”. Please include your name, company name (if any), and “GSAR Case 2007-G501” on your attached document.

• Fax: 202-501-4067.

• Mail: General Services Administration, Regulatory Secretariat (VPR), 1800 F Street, NW, Room 4041, ATTN: Laurieann Duarte, Washington, DC 20405.

Instructions: Please submit comments only and cite GSAR Case 2007-G501 in all correspondence related to this case. All comments received will be posted without change to http://www.regulations.gov, including any personal and/or business confidential information provided.

FOR FURTHER INFORMATION CONTACT: For clarification of content, contact Ms. Meredith Murphy at (202) 208-6925, or by e-mail at meredith.murphy@gsa.gov. For information pertaining to the status or publication schedules, contact the Regulatory Secretariat (VPR), Room 4041, GS Building, Washington, DC 20405, (202) 501-4755. Please cite GSAR Case 2007-G501.

SUPPLEMENTARY INFORMATION:

A. Background

The General Services Administration (GSA) proposes to amend the General Services Administration Acquisition Regulation (GSAR) to update the text addressing protests, disputes, and appeals. This rule is a result of the General Services Administration Acquisition Manual (GSAM) Rewrite initiative undertaken by GSA to revise the GSAM to maintain consistency with the FAR and implement streamlined and innovative acquisition procedures that contractors, offerors, and GSA contracting personnel can utilize when entering into and administering contractual relationships. The GSAM incorporates the General Services Administration Acquisition Regulation (GSAR) as well as internal agency acquisition policy.

GSA will rewrite each part of the GSAR and GSAM, and as each GSAR part is rewritten, will publish it in the Federal Register.

This rule covers the rewrite of GSAR Part 533, Protests, Disputes, and Appeals. GSAR Part 533 includes two subparts. GSAR Subpart 533.1, Protests, included only the prescription for a GSA-unique clause, 552.233-70, Protests Filed Directly with the General Services Administration. However, GSA proposes to delete this clause in its entirety because it repeated much of the FAR clause, and the remaining information is available to contractors on the internet in GSAM Subpart 533.1.

GSAR Subpart 533.2, Disputes and Appeals, has three sections, including the prescription for a utility disputes clause. Editorial changes were made to GSAR 533.211, Contracting officer’s decision, so as not to repeat the information that must be included, as prescribed in FAR 33.211, to clarify the GSA-unique requirements, and to recognize that the GSA Board of Contract Appeals’(GSBCA) duties are now vested in the Civilian Board of Contract Appeals (CSBA). No other changes were made to this subpart. In addition, the clause at GSAR 552.233-71, Disputes (Utility Contracts), and its prescription at GSAR 533.215, were deleted at the request of the GSA Public Buildings Service.

This is not a significant regulatory action and, therefore, was not subject to review under Section 6(b) of Executive Order 12866, Regulatory Planning and Review, dated September 30, 1993. This rule is not a major rule under 5 U.S.C. 804.

B. Regulatory Flexibility Act

The General Services Administration does not expect this proposed rule to have a significant economic impact on a substantial number of small entities within the meaning of the Regulatory Flexibility Act, 5 U.S.C. 601, et seq., because this rule will only impact an offeror that is submitting a protest or has a dispute with GSA. Further, GSA is proposing only minor changes in the regulations and procedures for pursuing either action. For these reasons, it is expected that the number of entities impacted by this rule will be minimal. An Initial Regulatory Flexibility Analysis has, therefore, not been performed. We invite comments from small businesses and other interested parties. GSA will consider comments from small entities concerning the affected GSAR Parts 533 and 552 in accordance with 5 U.S.C. 610. Interested parties must submit such comments separately and should cite 5 U.S.C. 601, et seq. (GSAR case 2007-G501), in all correspondence.

C. Paperwork Reduction Act

The Paperwork Reduction Act does not apply because the proposed changes to the GSAR do not impose information collection requirements that require the approval of the Office of Management and Budget under 44 U.S.C. 3501, et seq.

List of Subjects in 48 CFR Parts 533 and 552

Government procurement.

Dated: May 30, 2008
David A. Drabkin,
Acting Chief Acquisition Officer & Senior Procurement Executive Office of the Chief Acquisition Officer.

Therefore, GSA proposes to amend 48 CFR parts 533 and 552 as set forth below:

1. The authority citation for 48 CFR parts 533 and 552 continues to read as follows:

Authority: 40 U.S.C. 486(c).

PART 533—PROTESTS, DISPUTES, AND APPEALS

Subpart 533.1 [Removed]

2. Remove subpart 533.1, Protests.

3. Add section 533.209 to Subpart 533.2 to read as follows:

533.209 Suspected fraudulent claims.

In GSA, the agency official responsible for investigating fraud is the Office of Inspector General.

4. Revise section 533.211 to read as follows:

533.211 Contracting officer’s decision.

The contracting officer’s written decision must include the paragraph at FAR 33.211(a)(4)(v). The contracting officer shall state in the decision that a contractor’s notice of appeal to the Civilian Board of Contract Appeals (CBCA) should include a copy of the contracting officer’s decision.

533.215 [Removed]

5. Remove section 533.215.

PART 552—SOLICITATION PROVISIONS AND CONTRACT CLAUSES

552.233-70 and 552.233-71 [Removed]

6. Remove sections 552.233-70 and 552.233-71.

[FR Doc. E8-12572 Filed 6-6-08; 8:45 am]

BILLING CODE 6820-61-S